FEDERAL COMMUNICATIONS COMMISSION

Public Information Collection(s) Requirement Submitted to OMB for Emergency Review and Approval

May 2, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 9, 2006. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at 202-395-5167 or via internet at Kristy_L._LaLonde@omb.eop.gov. and to Judith B. Herman, Federal Communications Commission, Room 1-C804, 445 12th Street, SW., DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at JudithB.Herman@fcc.gov.

SUPPLEMENTARY INFORMATION: The Commission is requesting emergency OMB processing of this revised information collection and has requested OMB approval by May 16, 2006.

OMB Control Number: 3060-0600.

Title: Application to Participate in an FCC Auction.

Form No.: FCC Form 175.

Type of Review: Revision of a currently approved collection.

Respondents: Business or other for-profit, not-for-profit institutions, state, local and tribal government.

Number of Respondents: 560.

Estimated Time Per Response: .25—1.5 hours.

Frequency of Response: On occasion reporting requirement.

Total Annual Burden: 765 hours.

Total Annual Cost: N/A.

Privacy Act Impact Assessment: N/A.

Needs and Uses: The Commission is seeking emergency processing of this revised information collection by May 16, 2006.

On April 25, 2006, the Commission adopted and released a Second Report and Order and Second Further Notice of Proposed Rulemaking in FCC 06-52, WT Docket No. 05-211. This rulemaking will become effective thirty days after publication in the Federal Register. The Commission adopted this rulemaking governing whether applicants to participate in Commission auctions are eligible to receive designated entity (DE) benefits. Applicants to participate in the auction that claim to qualify as designated entities must so certify on FCC Form 175, the short-form application to participate in the auction. In order to allow time for the Commission to review and process their FCC Form 175, as well as to allow applicants time to correct and supplement FCC Form 175 as necessary, parties seeking to participate in the AWS 1 auction must file the form by May 10. Given that designated entity applicants will have filed FCC Form 175 prior to the effective date of any designated entity rule changes adopted pursuant to the Second Report and Order, the Commission will require each such applicant to amend its FCC Form 175 on or after the effective date of the rule changes with a statement declaring, under penalty of perjury, that the applicant is qualified as a designated entity pursuant to § 1.2110 of the Commission's rules effective as of the date of the statement. Therefore, this information collection is being modified by requiring a one-time additional declaration from a limited number of respondents.

Federal Communications Commission.
Marlene H. Dortch,
Secretary.

[FR Doc. E6-7037 Filed 5-9-06; 8:45 am]

BILLING CODE 6712-01-P